DEPARTMENT OF THE TREASURY

Internal Revenue Service

26 CFR Part 1

[REG-115420-18]

RIN 1545-BP03

Investing in Qualified Opportunity Funds; Correction

AGENCY: Internal Revenue Service (IRS), Treasury.

ACTION: Correction to a notice of proposed rulemaking and notice of public hearing.

SUMMARY: This document contains a correction to notice of proposed rulemaking and notice of public hearing (REG-115420-18) that was published in the Federal Register on Monday, October 29, 2018. The proposed regulations are providing guidance under new section 1400Z-2 of the Internal Revenue Code relating to gains that may be deferred as a result of a taxpayer's investment in a qualified opportunity fund.

DATES: Written or electronic comments and request for a public hearing for the notice of proposed rulemaking at 83 FR 54279, October 29, 2018, are still being accepted and must be received by December 28, 2018.

FOR FURTHER INFORMATION CONTACT: Concerning the proposed regulations, Erika C. Reigle of the Office of Associate Chief Counsel (Income Tax and Accounting), (202) 317-7006 and Kyle C. Griffin of the Office of Associate Chief Counsel (Income Tax and Accounting), (202) 317-4718; concerning the submission of comments, the hearing, or to be placed on the building access list to attend the hearing, Regina L. Johnson, (202) 317- 6901 (not toll-free numbers).

SUPPLEMENTARY INFORMATION:

Background

The notice of proposed rulemaking and notice of public hearing that is subject of this document is under section 1400Z-2 of the Internal Revenue Code.

Need for Correction

As published, the notice of proposed rulemaking and notice of public hearing (REG-115420-18) contains errors that may prove to be misleading and are in need of clarification.

Correction of Publication

Accordingly, the notice of proposed rulemaking and notice of public hearing, FR Doc. 2018-23382, published at 83 FR 54279, October 29, 2018, is corrected as follows:

1. On page 54285, second column, in the preamble, the twelfth line of the first full paragraph, the language “1400Z-2(d)](2)(D)). is corrected to read “1400Z-2(d)(2)(D)).”.

2. On page 54285, second column, in the preamble, the last line of the first full paragraph, the language “section 1400Z-2(d)(2)(B)(ii)(III).” is corrected to read “section 1400Z-2(d)(2)(B)(i)(III) and section 1400Z-2(d)(2)(C)(iii).”.

§ 1.400Z2(e)-1 [Corrected]

3. On page 54296, third column, the eleventh line of paragraph (a)(3)(i), the language “§ 1.752-3(a)” is corrected to read “section 752 and the regulations thereunder,”

Martin V. Franks,
Chief, Publications and Regulations Branch, Legal Processing Division, Associate Chief Counsel (Procedure and Administration).

[FR Doc. 2018-28207 Filed 12-27-18; 8:45 am]

BILLING CODE 4830-01-P